INTER-AMERICAN FOUNDATION BOARD MEETING

Sunshine Act Meetings

TIME AND DATE: March 29, 2010; 9:00 a.m.-1 :30 p.m.

PLACE: 901 N. Stuart Street, Tenth Floor, Arlington, Virginia 22203.

STATUS: Open to the public except for the portion specified as closed session as provided in 22 CFR Part 1004.4(b).

MATTERS TO BE CONSIDERED:

• Approval of the Minutes of the December 14, 2009, Meeting of the Board of Directors

• Resolution Honoring Gary Bryner

• President's Report

• Congressional Affairs

• IAF Program Activities

• Operations Report

• RedEAmerica Status

• Advisory Council Membership and Attendance at Meetings

• Status of Upcoming Meetings

• Status of Presidential Search

• Executive Session

Portions To Be Open to the Public:

• Approval of the Minutes of the December 14, 2009, Meeting of the Board of Directors

• Resolution Honoring Gary Bryner

• President's Report

• Congressional Affairs

• IAF Program Activities

• Operations Report

• RedEAmerica Status

• Advisory Council Membership and Attendance at Meetings

• Status of Upcoming Meetings

• Status of Presidential Search

Portions To Be Closed to the Public:

• Executive Session to discuss Candidates for Presidential Position— Closed session as provided in 22 CFR Part 1004.4 (b).

CONTACT PERSON FOR MORE INFORMATION:

Dated: March 16, 2010.
Jennifer Hodges Reynolds,
General Counsel (703) 306-4301.

[FR Doc. 2010-6202 Filed 3-17-10; 4:15 pm]

BILLING CODE 7025-01-P